FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
January 1, 2020 Thru January 31, 2020
01/02/2020
20200428 | G | Arcosa, Inc.; Leonard L. Cherry; Arcosa, Inc.
20200429 | G | Tiptree Inc.; Peter Masi; Tiptree Inc.
20200430 | G | Thoma Bravo Fund XIII-A, L.P.; Instructure, Inc.; Thoma Bravo Fund XIII-A, L.P.
20200432 | G | CETP IV Partcipations S.a.r.l; WorkandCo International, Inc.; CETP IV Partcipations S.a.r.l.
20200434 | G | Aqua America, Inc.; SteelRiver Infrastructure Fund North America LP; Aqua America, Inc.
20200435 | G | Center Rock Capital Partners, LP; Gary D. Wilt; Center Rock Capital Partners, LP.
20200436 | G | Center Rock Capital Partners, LP; Albert T. Wilt; Center Rock Capital Partners, LP.
20200437 | G | Jay Alix; CPC Mikawaya Holdings, LLC; Jay Alix.
20200440 | G | Humana Inc.; Consonance Private Equity, L.P.; Humana Inc.
20200443 | G | DTE Energy Company; South Jersey Industries, Inc.; DTE Energy Company.
20200444 | G | Bain Capital Fund XII, L.P.; DWH Equity Investors, L.P.; Bain Capital Fund XII, L.P.
20200445 | G | GFL Environmental Holdings, Inc.; Michael Ascione; GFL Environmental Holdings, Inc.
20200446 | G | GFL Environmental Holdings, Inc.; Edward Ascione; GFL Environmental Holdings, Inc.
20200452 | G | BCP CC Holdings L.P.; THLP Debt Partners, L.P.; BCP CC Holdings L.P.
20200457 | G | Drinker Biddle & Reath LLP; Faegre Baker Daniels LLP; Drinker Biddle & Reath LLP.
01/03/2020
20200392 | G | PS Holdings Independent Trust; Agilent Technologies, Inc.; PS Holdings Independent Trust.
20200395 | G | AP IX Sherwood Holdings, L.P.; S&S VENTURE, LLC; AP IX Sherwood Holdings, L.P.
20200451 | G | GS Acquisition Holdings Corp.; PE Vertiv Holdings, LLC; GS Acquisition Holdings Corp.
20200453 | G | ZMC III, L.P.; Welsh Carson Anderson & Stowe XII, L.P.; ZMC III, L.P.
01/07/2020
20200403 | G | Stephane Courbit; The Walt Disney Company; Stephane Courbit.
20200404 | G | Stephane Courbit; AIF VII Euro Holdings , L.P.; Stephane Courbit.
20200448 | G | Verisk Analytics, Inc.; NewCo; Verisk Analytics, Inc.
20200449 | G | NewCo; Verisk Analytics, Inc.; NewCo.
20200458 | G | Riverstone/Carlyle Global Energy and Power Fund IV (RW), L.P; Talos Energy Inc.; Riverstone/Carlyle Global Energy and Power Fund IV (RW), L.P.
20200459 | G | Riverstone Global Energy and Power Fund V (RW II), L.P.; Talos Energy Inc.; Riverstone Global Energy and Power Fund V (RW II), L.P.
20200460 | G | Partners Group Client Access 32, L.P.; EyeCare Partners, LLC; Partners Group Client Access 32, L.P.
20200469 | G | FS Equity Partners VIII, L.P.; AEA Investors Small Business Fund II LP; FS Equity Partners VIII, L.P.
20200483 | G | iA Financial Corporation Inc.; Genstar Capital Partners V, L.P.; iA Financial Corporation Inc.
20200484 | G | PTC Holding Company, LLC; Housatonic Equity Investors V, L.P.; PTC Holding Company, LLC.
20200486 | G | Kris Kibak; H.I.G. Capital Partners V, L.P.; Kris Kibak.
20200488 | G | Altaris Health Partners IV, L.P.; 3M Company; Altaris Health Partners IV, L.P.
20200489 | G | Sanofi; Nurix Therapeutics, Inc.; Sanofi.
20200490 | G | LMI Holdings, L.P.; LogMeIn, Inc.; LMI Holdings, L.P.
01/08/2020
20200493 | G | Cornell Capital Partners LP; Clare Rose Thorpe; Cornell Capital Partners LP.
20200494 | G | Clare Rose Thorpe; Cornell Capital Partners LP; Clare Rose Thorpe.
20200495 | G | Gryphon Partners V, L.P.; Mainsail Partners IV, L.P.; Gryphon Partners V, L.P.
20200496 | G | Amneal Pharmaceuticals, Inc.; AvKare Holdings, Inc.; Amneal Pharmaceuticals, Inc.
20200497 | G | Amneal Pharmaceuticals, Inc.; Rondo Top Holdings, LLC; Amneal Pharmaceuticals, Inc.
20200498 | G | NBSH Acquisition, LLC; Almanac Realty Investors, LP; NBSH Acquisition, LLC.
20200500 | G | PAI Europe VII-1 SCSp; Blackstone Capital Partners (Cayman) VI L.P.; PAI Europe VII-1 SCSp.
20200502 | G | JFL Equity Investors V, L.P.; Industrial Growth Partners IV, L.P.; JFL Equity Investors V, L.P.
20200506 | G | Palladium Equity Partners V, LP; J.H. Whitney VII-A, L.P.; Palladium Equity Partners V, LP.
20200507 | G | ABRY Partners IX, L.P.; Centauri Holdings, LLC; ABRY Partners IX, L.P.
20200508 | G | B. Riley Principal Merger Corp.; Ryan Greenawalt; B. Riley Principal Merger Corp.
20200511 | G | LS Power Equity Partners, IV, LP; Sustainable Asset Fund, L.P.; LS Power Equity Partners, IV, LP.
20200513 | G | Gryphon Partners V, L.P.; Mainsail Partners III, L.P.; Gryphon Partners V, L.P.
01/09/2020
20200230 | G | American Industrial Partners Capital Fund V, L.P.; Masco Corporation; American Industrial Partners Capital Fund V, L.P.
20200394 | G | Spirit AeroSystems Holdings, Inc.; Edgewater Capital Partners III, L.P.; Spirit AeroSystems Holdings, Inc.
20200397 | G | Eagle Materials, Inc.; Cemex S.A. de C.V.; Eagle Materials, Inc.
20200454 | G | Carlyle FRL, L.P.; American International Group, Inc.; Carlyle FRL, L.P.
20200465 | G | Helen of Troy Limited; Drybar Holdings LLC; Helen of Troy Limited.
20200509 | G | Advanced Semiconductor Engineering Technology Holding Co.,; Robert Miller; Advanced Semiconductor Engineering Technology Holding Co.
01/13/2020
20200510 | G | Atos SE; Maven Wave Partners LLC; Atos SE.
20200516 | G | MayFlower Investors LP; Qatar Holding, LLC; MayFlower Investors LP.
20200517 | G | MayFlower Investors LP; American Express Company; MayFlower Investors LP.
20200518 | G | Veolia Environnement S.A.; Alcoa Corporation; Veolia Environnement S.A.
20200523 | G | F5 Networks, Inc.; Shape Security, Inc.; F5 Networks, Inc.
20200526 | G | CITIC Capital China Partners IV, L.P.; Parthenon Investors IV, L.P.; CITIC Capital China Partners IV, L.P.
20200535 | G | New Mountain Partners V, L.P.; Behrman Capital PEP L.P.; New Mountain Partners V, L.P.
20200540 | G | Incline Equity Partners IV, L.P.; Foundation Source Philanthropic Services, Inc.; Incline Equity Partners IV, L.P.
20200541 | G | Apergy Corporation; ChampionX Holding Inc.; Apergy Corporation.
01/14/2020
20200447 | G | Huntsman Corporation; Friedman Fleischer & Lowe Capital Partners III, L.P.; Huntsman Corporation.
20200521 | G | TPG Growth IV DE AIV II, L.P.; American Residuals Group, LLC; TPG Growth IV DE AIV II, L.P.
20200525 | G | Ousland Holdings, Inc.; Robert Richard Eustace & Elsa Marie Eustace; Ousland Holdings, Inc.
20200527 | G | Orix Corporation; Hastings Equity Fund III, L.P.; Orix Corporation.
20200543 | G | TPG Partners VIII, L.P.; Susquehanna Growth Equity Fund IV, LLLP; TPG Partners VIII, L.P.
20200544 | G | Nomura Holdings, Inc.; Greentech Capital, LLC; Nomura Holdings, Inc.
20200548 | G | The Rubicon Project, Inc.; Telaria, Inc.; The Rubicon Project, Inc.
20200557 | G | Verizon Communications Inc.; GTE Mobilnet of Indiana RSA #6 Limited Partnership; Verizon Communications Inc.
01/16/2020
20200554 | G | Kolmar Korea Co. Ltd.; RaQualia Pharma Inc.; Kolmar Korea Co. Ltd.
20200564 | G | Cineworld Group plc; Cineplex Inc.; Cineworld Group plc.
20200567 | G | VS Holding I Inc.; VS Successor, LLC; VS Holding I Inc.
01/21/2020
20200545 | G | TiVo Corporation; Xperi Corporation; TiVo Corporation.
20200546 | G | Xperi Corporation; TiVo Corporation; Xperi Corporation.
20200550 | G | Asbury Automotive Group, Inc.; Mr. Kenneth L.Schnitzer; Asbury Automotive Group, Inc.
20200551 | G | Asbury Automotive Group, Inc.; Mr. Douglas W. Schnitzer; Asbury Automotive Group, Inc.
20200552 | G | Milliken & Company; The Resolute Fund III, L.P.; Milliken & Company.
20200555 | G | Investors AB; EQT Mid Market US Limited Partnership; Investors AB.
20200558 | G | Act II Global Acquisition Corp.; Ronald O. Perelman; Act II Global Acquisition Corp.
20200568 | G | LKCM Headwater Investments III, L.P.; Rexel S.A.; LKCM Headwater Investments III, L.P.
20200572 | G | EnCap Energy Capital Fund X, L.P.; WPX Energy, Inc.; EnCap Energy Capital Fund X, L.P.
20200573 | G | WPX Energy, Inc.; EnCap Energy Capital Fund X, L.P.; WPX Energy, Inc.
20200575 | G | IAC/InterActiveCorp.; Care.com, Inc.; IAC/InterActiveCorp.
20200579 | G | Axium Infrastructure NA IV L.P.; PSP Investments Holding Europe Ltd.; Axium Infrastructure NA IV L.P.
20200580 | G | Axium Infrastructure NA IV L.P.; BAIF-CREZ US Feeder L.P.; Axium Infrastructure NA IV L.P.
20200587 | G | Scopely, Inc.; The Walt Disney Company; Scopely, Inc.
20200590 | G | SDCL Energy Efficiency Income Trust plc; PERC Holdings 1, LLC; SDCL Energy Efficiency Income Trust plc.
01/22/2020
20200409 | G | CVS Health Corporation; Centene Corporation; CVS Health Corporation.
20200547 | G | Crane Co.; CIRCOR International, Inc.; Crane Co.
20200561 | G | CLEVELAND-CLIFFS INC; AK Steel Holding Corporation; CLEVELAND-CLIFFS INC.
20200588 | G | Harren Investors III, L.P.; Christopher Lavin; Harren Investors III, L.P.
01/24/2020
20200203 | G | Alexion Pharmaceuticals, Inc.; Achillion Pharmaceuticals, Inc.; Alexion Pharmaceuticals, Inc.
20200559 | G | Banpu Public Company Limited; Devon Energy Corporation; Banpu Public Company Limited.
20200582 | G | B. Riley Principal Merger Corp.; Thomas R. Holmes and Mary L. Holmes; B. Riley Principal Merger Corp.
01/27/2020
20200542 | G | Starboard Value and Opportunity Fund Ltd.; Box, Inc.; Starboard Value and Opportunity Fund Ltd.
20200566 | G | Accenture plc; Broadcom Inc.; Accenture plc.
20200592 | G | YUM! Brands, Inc.; The Habit Restaurants, Inc.; YUM! Brands, Inc.
20200593 | G | Colliers International Group Inc.; Michael E. Dougherty; Colliers International Group Inc.
20200597 | G | RELX PLC; NortonLifeLock Inc.; RELX PLC.
20200601 | G | L. John Doerr; Amyris, Inc.; L. John Doerr.
20200609 | G | PolyOne Corporation; Clariant AG; PolyOne Corporation.
20200610 | G | Quad-C Partners IX, L.P.; HaystackID Holdings LLC; Quad-C Partners IX, L.P.
20200613 | G | Diamond Eagle Acquisition Corp.; DraftKings, Inc.; Diamond Eagle Acquisition Corp.
01/28/2020
20191560 | G | PBF Energy Inc.; Royal Dutch Shell plc; PBF Energy Inc.
20200385 | G | Baxter International Inc.; Sanofi; Baxter International Inc.
20200530 | G | Leidos Holdings, Inc.; Dynetics, Inc. Employee Stock Ownership Trust; Leidos Holdings, Inc.
20200598 | G | Al Aqua (Cayman) Holdings Limited; AquaVenture Holdings Ltd.; Al Aqua (Cayman) Holdings Limited.
20200618 | G | Insight Partners XI, L.P.; Armis Security Ltd.; Insight Partners XI, L.P.
01/29/2020
20200599 | G | Equinix, Inc.; Packet Host, Inc.; Equinix, Inc.
20200602 | G | Seven & i Holdings Co., Ltd.; Brown-Thompson General Partnership; Seven & i Holdings Co., Ltd.
20200603 | G | Seven & i Holdings Co., Ltd.; W.C.B., L.L.C.; Seven & i Holdings Co., Ltd.
20200606 | G | Thompson Street Capital Partners V, L.P.; Leonard Bush; Thompson Street Capital Partners V, L.P.
01/31/2020
20200556 | G | Titan DI Holdings, Inc.; RS Energy Group Topco, Inc.; Titan DI Holdings, Inc.
20200605 | G | Windjammer Senior Equity Fund V, L.P.; Mehta Family Partners L.P.; Windjammer Senior Equity Fund V, L.P.
20200612 | G | Stanley Black and Decker, Inc.; Tinicum L.P.; Stanley Black and Decker, Inc.
20200614 | G | General Atlantic Partners AIV-1 B, L.P.; Kristin Farmer; General Atlantic Partners AIV-1 B, L.P.
20200624 | G | The Veritas Capital Fund VI, L.P.; Leeds Equity Partners IV-A, L.P.; The Veritas Capital Fund VI, L.P.
20200625 | G | The Veritas Capital Fund VI, L.P.; Leeds Equity Partners V, L.P.; The Veritas Capital Fund VI, L.P.
20200630 | G | GPA Global Holding; H. Anthony DiRico; GPA Global Holding.
20200631 | G | Barry Diller; IAC/InterActive Corp; Barry Diller.
20200633 | G | Tencent Holdings Limited; Vivendi S.E.; Tencent Holdings Limited.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-03445 Filed 2-20-20; 8:45 am]

BILLING CODE 6750-01-P